DEPARTMENT OF AGRICULTURE

Agricultural Marketing Service

7 CFR Part 65

[Doc. No. AMS-LPS-16-0014]

Addition of Mandatory Country of Origin Labeling Requirements for Venison

AGENCY: Agricultural Marketing Service, USDA.

ACTION: Proposed rule; extension of comment period.

SUMMARY: Notice is hereby given that the comment period for the proposed rule published in the Federal Register on January 13, 2017 (82 FR 4198), is extended until April 13, 2017. The proposed rule invited comments on proposed amendments to the Country of Origin Labeling (COOL) regulation to add muscle cuts of venison and ground venison to mandatory COOL requirements.

DATES: Comments received by April 13, 2017, will be considered prior to issuance of a final rule.

ADDRESSES: Interested persons are invited to submit comments via the Internet at: http://www.regulations.gov. Comments may also be submitted to: Doug McKalip, Acting Director, COOL Division; Livestock, Poultry, and Seed Program, Agricultural Marketing Service, USDA; Room 2619-S, STOP 0216; 1400 Independence Avenue SW., Washington, DC 20250-0216; or email COOL@ams.usda.gov. All comments should reference the document number and the dates and page numbers of the January 13, 2017, issue and this issue of the Federal Register. All comments received will be posted online without change, including any personal information provided, and will be made available for public inspection at the above physical address during regular business hours.

FOR FURTHER INFORMATION CONTACT: Doug McKalip, Acting Director, COOL Division; Livestock, Poultry, and Seed Program, Agricultural Marketing Service, USDA; Room 2619-S, STOP 0216; 1400 Independence Avenue SW., Washington, DC 20250-0216; telephone (202) 720-4486; or email COOL@ams.usda.gov.

SUPPLEMENTARY INFORMATION: A proposed rule published in the Federal Register on January 13, 2017 (82 FR 4198), requested comments on revisions to the COOL regulations that would add venison to the list of regulated products. Under the proposed rule, suppliers and retailers of venison products would be required to keep records and provide their customers notification of the country of origin of muscle cuts and ground venison that they sell.

The 60-day comment period provided in the proposed rule would have closed March 14, 2017. The comment period for the proposed rule is extended until April 13, 2017.

The Agricultural Marketing Service is extending the public comment period for an additional 30 days to ensure that interested persons have sufficient time to review and comment on the proposed rule.

Authority: 7 U.S.C. 1621 et seq.

Dated: February 14, 2017.
Bruce Summers,
Acting Administrator, Agricultural Marketing Service.

[FR Doc. 2017-03255 Filed 2-16-17; 8:45 am]

BILLING CODE 3410-02-P